DEPARTMENT OF HEALTH AND HUMAN SERVICES

Centers for Disease Control and Prevention

Integrating HIV and Other Prevention Services Into Reproductive Health and Community Settings

Announcement Type: New.

Funding Opportunity Number: 04073.

Catalog of Federal Domestic Assistance Number: 93.946.

Key Dates:

Application Deadline: May 14, 2004.

Executive Summary: Table of Contents

I. Funding Opportunity Description

Authority

Purpose

Part A: HIV Prevention Integration

Part B: Adolescent Reproductive Health Activities

Part A: HIV Prevention Integration

Part B: Adolescent Reproductive Health

II. Award Information

Part A: HIV Prevention Integration

Part B: Adolescent Reproductive Health

III. Eligibility Information

1. Eligibility Applicants

2. Cost-Sharing or Matching

3. Other

IV. Application and Submission Information

1. Address to Request Application Package

2. Content and Form of Submission

3. Submission Dates and Times

4. Intergovernmental Review of Applications

5. Funding Restrictions

6. Other Submission Requirements

Application Submission Address

I. Application Review Information

1. Criteria

Part A: HIV Prevention Integration

Part B: Adolescent Reproductive Health

2. Review and Selection Process

VI. Award Administration Information

1. Award Notices

2. Administrative and National Policy Requirements

3. Reporting Requirements

VII. Agency Contacts

Appendix A HIV Prevention Integration Background Information

Appendix B HIV Prevention Integration Logic Models

Appendix C Background Information for the Optional Adolescent Reproductive Health Project

Appendix D On-Line Reporting System

Appendix E DHHS Regions

I. Funding Opportunity Description

Authority: This program is authorized under Sections 301(a) and 317(k)(2) [42 U.S.C. 241(a) and 247b(k)(2)] of the Public Health Service Act, as amended.

Purpose: The overall purpose of this cooperative agreement is to support HIV and other prevention services in reproductive health and community settings to reach beyond their current efforts to prevent STD and HIV transmission, and unintended and teen pregnancies.

This program announcement provides funding for two related but distinct components. All applicants are required to apply for the HIV Prevention Integration (Part A) component while the Adolescent Reproductive Health (Part B) component is optional for Part A applicants.

The purpose of Part A is to support the integration of HIV prevention services into reproductive health settings. (See Appendix A: HIV Prevention Integration Background Information and Appendix B: HIV Prevention Integration Logic Models.) The purpose of Part B is to build capacity within communities to prevent teen pregnancy, STDs and HIV, and promote adolescent reproductive health using a range of strategies, including abstinence. (See Appendix C: Adolescent Reproductive Health Background Information.)

Collectively, both programs address the “Healthy People 2010” focus areas of Family Planning and Sexual Health, HIV, Sexually Transmitted Disease (STD), and Education and Community-Based Programs.

Measurable outcomes for both programs will be in alignment with one or more of the performance goal(s) for the National Center for Chronic Disease Prevention and Health Promotion (NCCDPHP) and the National Center for HIV, STD and Tuberculosis Prevention (NCHSTP):

Part A: HIV Prevention Integration

For the HIV Prevention Integration component, the performance goal(s) for the program are to:

• Reduce the number of new HIV infections.

• Decrease the number of persons at high-risk for acquiring or transmitting HIV infection.

• Increase the proportion of HIV-infected people who know they are infected.

• Increase the proportion of HIV-infected people who are linked to appropriate prevention, care, and treatment services.

• Strengthen the capacity regionwide to monitor the epidemic, develop and implement effective HIV prevention interventions, and evaluate prevention programs.

• Increase the number of reproductive health settings that integrate HIV counseling and testing services

• Increase the number of staff working in reproductive health settings who counsel clients using client-centered counseling skills.

Part B: Adolescent Reproductive Health

For the Adolescent Reproductive Health component, the performance goal(s) for the program are to:

• Increase the proportion of adolescents who abstain from sexual intercourse or use condoms if currently sexually active.

• Reduce pregnancies among adolescent females.

• Reduce the number of cases of HIV infection among adolescents.

• Reduce the number of sexually transmitted disease cases among adolescents.

Activities

Part A: HIV Prevention Integration

Awardee activities for Part A are as follows:

• Develop, implement, and evaluate a strategy to integrate HIV counseling and testing services in reproductive health settings.

• Develop, implement, and evaluate training and technical assistance in client-centered counseling skills for reproductive health staff.

• Identify, establish, and evaluate the effectiveness of one reproductive health setting within the region that will serve as a “model” clinic to showcase integration of HIV prevention services to other recipients of training and technical assistance.

• Participate in the collective management and evaluation of the program.

• Assign one senior staff member and one alternate to the Grantee Steering Committee (GSC), to be comprised of one representative from each grantee and CDC program staff.

• GSC representatives will participate in regular conference calls.

• In the first six months of the project, work with the GSC to:

—Develop a logic model for the overall program and individual projects.

—Identify key evaluation indicators and data sources from across the programs.

—Develop an overall plan of activities and accomplishments for years two through five.

—Develop a strategy to share and disseminate training and technical assistance materials and resources among the grantees and to other constituent groups.

—Participate in collaborative management and evaluation of the program.

—Assign an appropriately qualified staff person as the project evaluator.

—Travel the GSC representative and one alternate to a two-day annual grantee meeting, location to be determined.

—Travel the GSC member and the designated project evaluator to a two-day evaluation workshop at the initiation of the project, location to be determined.

—Submit timely on-line reports. (See Appendix D for additional information on the program's on-line reporting system.)

In a cooperative agreement, CDC staff is substantially involved in the program activities, above and beyond routine grant monitoring.

CDC activities for Part A are as follows:

• Provide scientific and programmatic consultation for development and delivery of training, technical assistance, and evaluation activities.

• Serve as integral member of the Steering Committee.

• Coordinate timely dissemination of resources, materials, and relevant findings.

• Coordinate communication with other CDC programs, mainly the divisions of Reproductive Health, STD Prevention, and HIV Prevention.

• Take the lead in developing grantee capacity to evaluate project efforts. This will include identifying experts in the field of project evaluation, and designing and participating in an evaluation workshop.

• Organize, facilitate, and participate in the annual grantee meeting.

Part B: Adolescent Reproductive Health

Awardee activities for Part B are as follows:

• Develop a strategy and workplan to include a target audience, collaborative activities, and an evaluation plan, to help communities reduce teen pregnancy, STDs and HIV.

• Provide training and technical assistance to State and local coalitions, State health departments, schools, health clinics, youth serving community and faith-based organizations, or other organizations to increase the organizations' capacity to:

—Select science-based interventions or modify current practices to include science-based principles to prevent teen pregnancy, HIV and STDs, and promote adolescent reproductive health that meet the identified needs of the community.

—Select and implement science-based interventions.

—Design and implement an evaluation plan that contributes to program improvement and accountability.

—Translate and broadly disseminate evaluation findings and training materials for publication and use through a variety of mechanisms such as scientific journals, media, professional meetings the Internet, training manuals, curricula, toolkits, or other innovative means.

—Develop and implement an evaluation plan to measure the impact of training and technical assistance on organizations through progress of recipient activities.

• Share lessons learned with CDC and other grantees.

• Collaborate with CDC and national organizations and state coalitions funded through the existing “Coalition Capacity Building for Teen Pregnancy Prevention” cooperative agreement.

• Collaborate with CDC on program development, implementation, and evaluation, and disseminate lessons learned from those activities.

CDC activities for Part B are as follows:

• Provide scientific and programmatic consultation for development and delivery of training, technical assistance, and evaluation activities.

• Work with grantees to develop evaluation strategies.

• Coordinate communication with other CDC programs, mainly the divisions of Reproductive Health and Adolescent and School Health.

• Facilitate coordination of activities and communication between recipients and national organizations and state coalitions funded through the existing “Coalition Capacity Building for Teen Pregnancy Prevention” cooperative agreement.

• Translate and disseminate nationally lessons learned and teen pregnancy, HIV and STD best practices through publications, meetings, and other means.

II. Award Information

Part A: HIV Prevention Integration

Type of Award: Cooperative Agreement.

CDC involvement in this program is listed in the Activities Sections above.

Fiscal Year Funds: 2004.

Approximate Total Funding: $860,000.

Approximate Number of Awards: 10 (one award per DHHS Region, See Appendix E for a breakdown of DHHS regions).

Approximate Average Award: $86,000 (This amount is for the first 12-month budget period, and includes both direct and indirect costs).

Floor of Award Range: None.

Ceiling of Award Range: None (This ceiling is for the first 12-month budget period).

Anticipated Award Date: September 1, 2004.

Budget Period Length: 12 months.

Project Period Length: 5 years.

Part B: Adolescent Reproductive Health

Approximate Total Funding for Part B only: $450,000.

Approximate Number of Awards: 4-6.

Approximate Average Award: $75,000 (This amount is for the first 12-month budget period, and includes both direct and indirect costs).

Floor of Award Range: $75,000.

Ceiling of Award Range: $130,000 (This ceiling is for the first 12-month budget period.)

Anticipated Award Date: September 1, 2004.

Budget Period Length: 12 months.

Project Period Length: 5 years.

Throughout the project period, CDC's commitment to continuation of awards will be conditioned on the availability of funds, evidence of satisfactory progress by the recipient (as documented in required reports), and the determination that continued funding is in the best interest of the Federal Government.

III. Eligibility Information

III.1. Eligible Applicants

Applications may be submitted by public and private nonprofit organizations and by governments and their agencies, such as:

• Public nonprofit organizations

• Private nonprofit organizations

• Universities

• Colleges

• Research institutions

• Hospitals

• Community-based organizations

• Faith-based organizations

• Federally-recognized Indian tribal governments

• Indian tribes

• Indian tribal organizations

• State and local governments or their Bona Fide Agents (this includes the District of Columbia, the Commonwealth of Puerto Rico, the Virgin Islands, the Commonwealth of the Northern Marianna Islands, American Samoa, Guam, the Federated States of Micronesia, the Republic of the Marshall Islands, and the Republic of Palau)

• Political subdivisions of States (in consultation with States)

A Bona Fide Agent is an agency/organization identified by the state as eligible to submit an application under the state eligibility in lieu of a state application. If you are applying as a bona fide agent of a state or local government, you must provide a letter from the state as documentation of your status. Place this documentation behind the first page of your application form.

III.2. Cost Sharing or Matching

Matching funds are not required for this program.

III.3. Other

If your application is incomplete or non-responsive to the requirements listed below, it will not be entered into the review process. You will be notified that your application did not meet submission requirements.

Applicants applying for both Parts A and B must be approved for Part A to be considered for Part B.

If you request a funding amount greater than the ceiling of the award range, your application will be considered non-responsive, and will not be entered into the review process. You will be notified that your application did not meet the submission requirements.

If agencies are interested in applying for funding under this program announcement but do not meet the qualification criteria, they are encouraged to partner with an eligible entity.

Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC web site, at the following Internet address: http://www.cdc.gov/od/pgo/forminfo.htm. If you do not have access to the Internet, or if you have difficulty accessing the forms on-line, you may contact the CDC Procurement and Grants Office Technical Information Management Section (PGO-TIM) staff at: 770-488-2700. Application forms can be mailed to you.

IV.2. Content and Form of Submission

Application: You must submit a project narrative with your application forms. The narrative must be submitted in the following format:

• Maximum number of pages for both Parts A and B: 35. If your narrative exceeds the page limit, only the first pages within the page limit will be reviewed.

—For Part A: 20 page maximum

—For Part B: 15 page maximum

• Font size: 12 point unreduced.

• Double-spaced.

• Paper size: 8.5 by 11 inches.

• Page margin size: One inch.

• Printed only on one side of page.

• Pages numbered consecutively.

• Held together only by rubber bands or metal clips; not bound in any other way.

Your narrative should address activities to be conducted over the entire project period, and must include the following items in the order listed for Parts A and B if applicable. Applicants must clearly label all sections relating to Parts A and B as “Part A: HIV Prevention Integration” and “Part B: Adolescent Reproductive Health”. Part B will require a separate narrative that should address activities to be conducted over the entire 5-year project period.

Part A: HIV Prevention Integration

1. Background

• Describe your organization's experience in providing training, capacity-building, and technical assistance in the areas of client-centered counseling or integration of HIV prevention services. Include such information as the name, location, and type of organizations trained or provided technical assistance; staff trained (e.g., job category, demographic data); nature of training or technical assistance provided; curricula, tools, or other materials used; outcome or evaluation results; and any collaboration with other organizations in developing and delivering the training or technical assistance.

• Include a memo in an Appendix that clearly describes:

—Your organization's capacity to serve all states within the DHHS region in which you are geographically located.

—The extent to which your organization has qualified staff with a minimum of five years experience designing scientific-based curricula and delivering training on integrating HIV prevention services into reproductive health care settings.

—To extent to which your organization has staff experienced in assessing DHHS region-wide HIV-prevention training needs.

• Describe staff experience in recruiting clinics that provide reproductive health services as potential collaborating partners; negotiating the terms of agreement with these potential collaborating partners; and providing technical assistance to these partners on integrating HIV prevention services.

• Identify all funding sources supporting your organization in its client-centered counseling or HIV prevention integration activities.

• Provide a copy of the most recent regional HIV and family planning training needs assessments as an appendix.

• Describe the women in your region most at-risk for HIV infection. Include such information as the documented number of known cases of HIV and AIDS, and other data indicative of behavioral risks (such as rates for STDs, tobacco use, substance abuse, incarceration, homelessness, teen pregnancy, and unintended pregnancy). Indicate the source(s) of any data provided.

• Describe the providers of reproductive health services in your region. Include the name and location, services provided, staffing patterns, communities served, and previous training or technical assistance received from your organization.

2. Objectives

Define specific, measurable, achievable, realistic, and time-phased objectives for each performance goal of the program (see Part A: HIV Prevention Integration after Purpose).

2. Plan and Methods for Activities

For HIV Prevention Integration:

• Describe the strategy you will use to support reproductive health settings to integrate HIV counseling and testing services, striving to provide technical assistance to the maximum number of sites from throughout the region, while maintaining the greatest quality of technical assistance.

• Identify and justify the settings to be targeted.

• Describe the technical assistance strategy, including targeted staff, objectives, tools, process, length of project, and evaluation plan.

• Describe anticipated obstacles.

• Include letters of support and intent to collaborate from the directors of at least five reproductive health agencies or other community or faith-based organizations that provide reproductive health services in the region. The letters must clearly state their support and commitment to the project and the specific collaboration they agree to bring to the five-year process. The inclusion of memoranda of agreement is encouraged.

• Provide a timeline demonstrating the order and timing of key project activities as they relate to the proposed goals and objectives.

For Client-Centered Counseling:

• Describe the strategy you will use to train reproductive health staff in client-centered counseling, striving to reach the maximum number throughout the region while maintaining the greatest training quality.

• Identify and justify the settings and staff to be targeted.

• Describe the training strategy, including the method of delivery, potential trainers, training objectives, length of training, curriculum and materials, and evaluation plan.

• Describe anticipated obstacles.

• Identify the scientific basis for the strategy; include a bibliography if necessary as an appendix.

• Include in an appendix letters of support and intention to collaborate from the directors of five reproductive health agencies or other community or faith-based organizations that provide reproductive health services in the region. The letters must clearly state their support and commitment to the project and the specific collaboration they agree to bring. The inclusion of memoranda of agreement is encouraged.

• Provide a timeline demonstrating the order and timing of key project activities as they relate to the proposed goals and objectives.

For Model Clinic:

• Each grantee will identify, establish, and evaluate the effectiveness of one reproductive health setting within the region that will serve as a model clinic to showcase integration of HIV prevention services and client-centered counseling skills to other recipients of training or technical assistance.

• Describe the strategy you will use to identify and establish the model clinic.

• Provide a justification for the selection of the clinic.

• Identify the strategy you will used to create the model clinic.

• Explain how the clinic will model client-centered counseling and integration of HIV prevention services to staff from other reproductive health settings in the region.

• Identify anticipated obstacles.

• Obtain a written letter of support from the clinic director of the proposed model clinic that clearly states his or her understanding of the project duration and staff requirements for the project.

• Provide a timeline demonstrating the order and timing of key project activities as they relate to the proposed goals and objectives.

4. Evaluation

• Clearly identify an evaluation plan for each project component that is consistent with CDC's Evaluation Framework for Evaluating Public Health Programs. (http://www.cdc.gov/eval/framework.htm).

• In the plan, identify primary stakeholders.

• For each project component, include process and outcome evaluation indicators for each measurable objective.

• Provide a data Collection, Analysis, and Management plan that includes:

—Explain how baseline data will be gathered.

—Describe how project-related data will be collected and analyzed, including measures to protect client and staff privacy and confidentiality.

—Identify who will conduct data collection, analysis, and management.

—Specify how often data will be collected and analyzed.

• Dissemination of Findings

—Describe how the data findings and evaluation results will be shared with stakeholders.

—Describe how the evaluation results will be used.

5. Project Staff

• Provide job descriptions for anticipated project staff, identifying specific roles (e.g., management and supervision, planning, curricula development, training delivery, technical assistance, evaluation, staff support). Attach résumés of existing and newly proposed staff as an appendix.

• Provide an organizational chart as an appendix that identifies lines of authority, including who will have management authority over the project.

• Identify the senior staff member and one alternate to serve on the project's Steering Committee.

• Identify the staff person who will take the lead on the project's evaluation.

6. Budget and Justification (Does Not Count Against Narrative Page Limit.)

• Provide a detailed budget and line-item justification for all operating expenses that are consistent with the proposed program objectives and activities for each activity. Include:

—Any staff or trainee travel.

—Attendance for two people (the GSC member and the project evaluator) at two-day evaluation workshop, location to be determined.

—Attendance for two people (the GSC member and an alternate) to attend the annual grantee meeting, location to be determined.

7. Protection of Human Subjects

Address the Requirements of Title 45 CFR part 46 for the protection of Human Subjects.

Part B: Adolescent Reproductive Health

1. Background

• Describe your organization's experience in providing training and technical assistance in teen pregnancy, STD, and HIV prevention.

• Include a memo as an appendix that clearly describes:

—Your organization's experience providing technical assistance in the areas of teen pregnancy, STD, and HIV prevention.

—Your organization's experience providing technical assistance and training to State and local coalitions, State health departments, schools, health clinics, youth serving community and faith-based organizations, or other organizations.

—The extent to which your organization has staff with demonstrated experience in teen pregnancy, STD, and HIV prevention training and evaluation.

—Describe any experience developing logic models, and identifying, selecting, implementing, and evaluating science-based programs that prevent teen pregnancy, HIV and STDs, and promote adolescent reproductive health.

—Describe the results of similar efforts that used skills to provide training and technical assistance to other organizations such as State and local coalitions, State health departments, schools, health clinics, youth serving community and faith-based organizations and to disseminate findings to a broader audience.

2. Objectives

Define specific, measurable, achievable, realistic, and time-phased objectives to support each performance goal of the program (see Part B: Adolescent Reproductive Health after Purpose).

• Identify and describe the activities to support the objectives.

• Explain how achievement of the objectives will be measured.

3. Plan and Methods

• Provide a realistic timeline for activities.

• Describe how the project will be implemented.

• Describe how the project will achieve the goal of the overall program.

• Describe the training and technical assistance strategy including the method of delivery, potential trainers, training objectives, length of training, curriculum and materials, and evaluation plan.

• Describe any anticipated obstacles to accomplishing the proposed activities.

• Include letters of support and intention to collaborate from the directors of at least two organizations in the region. The letters must clearly state their support and commitment to the proposed activities and the specific collaboration they agree to bring to the five-year process. Inclusion of memoranda of agreement is encouraged.

• Describe the translation and dissemination plan for lessons learned.

4. Evaluation Plan

• Develop an evaluation plan that is consistent with CDC's Evaluation Framework for Evaluating Public Health Programs. (See http://www.cdc.gov/eval/frameword.htm).

• Identify primary stakeholders in the evaluation process.

• For each measurable objective, identify process and outcome indicators.

• Identify who will conduct the data collection, analysis, and management.

• Describe how data will be collected and analyzed and how often.

• Describe how the data findings and evaluation results will be shared with stakeholders and how results will be used.

5. Program Staff

• Describe the training and technical assistance experience of staff in science-based practices in teen pregnancy, STD, and HIV prevention.

• Describe the experience of the staff working with the proposed target organizations.

• Provide résumés and job descriptions of existing and newly proposed staff, with prior experience in teen pregnancy, STD, and HIV prevention, identifying their role and responsibilities in the optional teen pregnancy prevention component.

• Provide an organizational chart as an appendix that identifies lines of authority, including who will have management authority over the project.

• Identify the staff person who will take the lead on the project's evaluation.

6. Budget and Justification (Does Not Count Against Narrative Page Limit.)

• Provide a detailed budget and line-item justification for all operating expenses that are consistent with the proposed program objectives and activities for each activity. Include:

—Any staff or trainee travel costs.

—Cost for attendance for one person at a two-day evaluation workshop, location to be determined.

—Cost for one annual trip for two staff to attend a planning, training, and information-sharing meeting, location to be determined.

7. Protection of Human Subjects

Address the requirements of Title 45 CFR part 46 for the protection of human subjects.

Additional information may be included in the application appendices. The appendices will not be counted toward the narrative page limit. This additional information may include:

—Training needs assessments

—Epidemiological data

—Training curricula or materials

—Curriculum vitae/resumes

—Organizational charts

—Letters of support

—Memoranda of agreement

—Bibliographies

—Other pertinent information requested in the narrative section of the program announcement or other relevant material and documents you want to include.

You are required to have a Dun and Bradstreet Data Universal Numbering System (DUNS) number to apply for a grant or cooperative agreement from the federal government. The DUNS number is a nine-digit identification number, which uniquely identifies business entities. Obtaining a DUNS number is easy and there is no charge. To obtain a DUNS number, access http://www.dunandbradstreet.com or call 1-866-705-5711.

For more information, see the CDC web site at: http://www.cdc.gov/od/pgo/funding/pubcommt.htm. If your application form does not have a DUNS number field, please write your DUNS number at the top of the first page of your application, and/or include your DUNS number in your application cover letter.

IV.3. Submission Dates and Times

Application Deadline Date: May 14, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This announcement is the definitive guide on application submission address and deadline. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• You may not use funds to supplant Federal, State, or local health department funds; make building improvements or engage in other construction activities; or provide direct clinical or treatment services.

If you are requesting indirect costs in your budget, you must include a copy of your current indirect cost rate agreement. If your indirect cost rate is a provisional rate, the agreement should be less than 12 months of age.

Guidance for completing your budget can be found on the CDC web site, at the following Internet address: http://www.cdc.gov/od/pgo/funding/budgetguide.htm.

IV.6. Other Submission Requirements

Application Submission Address: Submit the original and two hard copies of your application by mail or express delivery service to: Technical Information Management-PA#04073, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

Part A: HIV Prevention Integration

1. Plan and Methods (35)

• Does the applicant identify appropriate staff to support HIV Prevention Integration, Client-Centered Counseling, and the Model Clinic.?

• Does the applicant propose a realistic timeline demonstrating order and timing of key project activities for HIV Prevention Integration, Client-Centered Counseling, and the Model Clinic?

• Does the applicant demonstrate a valid process to identify training and technical assistance priorities that appear appropriate and likely to promote and support HIV Prevention Integration, Client-Centered Counseling, and the Model Clinic?

• Does the applicant demonstrate support for the project with letters of support or memoranda of agreement for HIV Prevention Integration, Client-Centered Counseling, and the Model Clinic? Do the letters clearly indicate an intention to collaborate and an understanding of the commitment involved?

2. Objectives (20)

• Does the applicant provide objectives that are specific, measurable, achievable, realistic, and time-phased for HIV Prevention Integration, Client-Centered Counseling, and the Model Clinic?

• Does the applicant clearly identify which of the goals (e.g., HIV prevention integration and client-centered counseling) each of their project objectives supports?

3. Evaluation (20)

• Does the applicant clearly identify an evaluation plan for HIV Prevention Integration, Client-Centered Counseling, and the Model Clinic, including identification of stakeholders; measurable process and outcome indicators for activities and objectives; strategy to collect, analyze, and disseminate data; and use of data findings and evaluation results?

• Are the objectives linked to appropriate evaluation criteria for HIV Prevention Integration, Client-Centered Counseling, and the Model Clinic?

4. Background (15)

• Does the applicant provide information in an appendix that specifically addresses:

—Their capacity to serve all states within the DHHS region in which they are geographically located.

—The extent to which they have qualified staff with a minimum of five years experience designing scientific-based curricula and delivering training on integrating HIV prevention services into reproductive health care settings.

—The extent to which they have staff experienced in assessing DHHS region-wide HIV-prevention training needs.

• Does the applicant demonstrate recent training, capacity-building, or technical assistance related to client-centered counseling or HIV prevention integration?

• Does the applicant have a demonstrated history of providing training or technical assistance throughout the DHHS region in which they are located?

• Does the applicant demonstrate their ability to work collaboratively with other organizations in the region?

• Does the applicant demonstrate the ability to plan, develop, coordinate, deliver, and evaluate each activity?

• Does the applicant demonstrate consideration of regional needs assessments, regional HIV epidemiology, available services, and geographical and demographic issues in their selection of sites and trainees?

• Does the applicant justify their selection of sites, trainees, strategies, methodologies, tools, curricula, and objectives?

5. Program Staff (10)

• Does the applicant provide job descriptions for anticipated project staff and identify specific roles?

• Does the applicant include resumes of existing and proposed staff?

• Does the applicant provide an organizational chart that identifies lines of authority, including who will have management authority over the project?

6. Budget (Not Scored)

Does the Applicant Provide a Detailed and Clear Budget and Justification That Is Consistent With the Proposed Program Objectives and Activities?

7. Human Subjects (Not Scored)

If Relevant, Does the Applicant Address the Requirements of Title 45 CFR Part 46 for the Protection of Human Subjects?

Part B: Adolescent Reproductive Health

1. Plan and Methods (35 Points)

• Is the timeline for the proposed activities realistic?

• Does the plan describe the training and technical assistance strategy to be used, including the method of delivery, potential trainers, training objectives, length of training, curriculum and materials, and evaluation plan?

• Does the plan describe how it will achieve the overall program goal?

• Does the plan describe any anticipated obstacles to providing training to the proposed organizations and personnel?

• Does the applicant include two letters of support that describe the intent to collaborate with the applicant?

• Does the applicant describe a plan to translate and disseminate lessons learned?

2. Objectives (20 Points)

• Does the applicant provide objectives that are specific, measurable, achievable, realistic, and time-phased?

• Do the applicant's objectives and activities use the organization's strengths and meet the program goal of building capacity within communities to prevent teen pregnancy and promote adolescent reproductive health?

• Does the applicant explain how objectives will be measured?

3. Evaluation (20 Points)

• Does the applicant identify the primary stakeholders in the evaluation process?

• Does the applicant provide an evaluation plan that identifies measurable objectives, including process and outcome indicators and timeframes?

• Does the evaluation plan identify who will conduct the data collection, analysis, and management and at what intervals?

• Does the applicant describe how the evaluation results will be shared with stakeholders and how the results will be used?

4. Background (15 Points)

• Does the applicant provide information in an appendix that specifically addresses:

—Their experience providing technical assistance in the areas of teen pregnancy, STD, and HIV prevention.

—Their experience providing technical assistance and training to State and local coalitions, State health departments, schools, health clinics, youth serving community and faith-based organizations, or other organizations.

—The extent to which their staff has demonstrated experience in teen pregnancy, STD, and HIV prevention training and evaluation.

• Does the applicant describe their experience in providing training and technical assistance in science-based practices in teen pregnancy, STD and HIV prevention?

• Does the applicant describe the results of similar efforts using skills to provide training and technical assistance to other organizations and disseminate information to a broader audience?

5. Program Staff (10 Points)

• Does the proposed staff have adequate training and technical assistance experience in science-based practices to successfully implement the project?

• Does the applicant provide résumés and job descriptions of existing and newly proposed staff with prior training and technical assistance experience in teen pregnancy, STD, and HIV prevention, identifying their role and responsibilities?

• Does the applicant provide an organizational chart that identifies lines of authority including who will have management authority over the project?

6. Budget and Justification (Not Scored)

Does the applicant provide a budget that is detailed, itemized, reasonable, clearly justified, and consistent with the intended use of funds?

7. Protection of Human Subjects (Not Scored)

Does the applicant adequately address the requirements of title 45 CFR part 46 for the protection of human subjects?

V.2. Review and Selection Process

Applications will be reviewed for completeness by the Procurement and Grants Office (PGO) staff and for responsiveness by the NCCDPHP staff. Incomplete applications and applications that are non-responsive to the eligibility criteria will not advance through the review process. Applicants will be notified that their application did not meet the submission requirement.

An objective review panel will evaluate complete and responsive applications according to the criteria listed in the “V.1 Criteria” section above. All applications will be reviewed against the criteria for Part A. Applications for the optional Part B will be reviewed against the criteria for Part B by the same objective review panel. Following the panel, scores will be calculated for Part A applications and the highest scoring application for each of the 10 DHHS regions will be selected. Applications for Part B by these 10 applicants only will then be considered; awards for Part B will be based on ranking by score.

V.3. Anticipated Announcement and Award Dates

Award Date: On or before September 1, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements 45 CFR parts 74 and 92.

For more information on the Code of Federal Regulations, see the National Archives and Records Administration at the following Internet address: http://www.access.gpo.gov/nara/cfr/cfr-table-search.html.

The following additional requirements apply to this project:

• AR-1 Human Subjects Requirements

• AR-2 Requirements for Inclusion of Women and Racial and Ethnic Minorities in Research

• AR-4 HIV/AIDS Confidentiality Provisions

• AR-5 HIV Program Review Panel Requirements

• AR-7 Executive Order 12372

• AR-9 Paperwork Reduction Act Requirements (to be determined by OMB reports clearance officer)

• AR-10 Smoke-Free Workplace Requirements

• AR-11 Healthy People 2010

• AR-12 Lobbying Restrictions

• AR-14 Accounting System Requirements

• AR-15 Proof of Non-Profit Status

• AR-23 States and Faith-Based Organizations

• AR-24 Health Insurance Portability and Accountability Act Requirements

Additional information on these requirements can be found on the CDC web site at the following Internet address: http://www.cdc.gov/od/pgo/funding.ARs.htm.

VI.3. Reporting Requirements

You must provide CDC with an original, plus two copies of the following reports:

1. Interim progress reports are due March 31 and September 30 each year of the cooperative agreement. The March progress report will serve as your non-competing continuation application, and must contain the following elements:

a. Current Budget Period Activities and Objectives

b. Current Budget Period Financial Progress

c. New Budget Period Program Proposed Activities and Objectives

d. Budget

e. Additional Requested Information f. Measures of Effectiveness

2. Financial status report, due November 30 or no more than 90 days after the end of the budget period.

3. Final financial and performance reports, due November 30 or no more than 90 days after the end of the 5-year project period.

These reports must be mailed to the Grants Management or Contract Specialist listed in the “Agency Contacts” section of this announcement.

VII. Agency Contacts

For general questions about this announcement, contact: Technical Information Management Section, CDC Procurement and Grants Office, 2920 Brandywine Road, Atlanta, GA 30341, Telephone: (770) 488-2700.

For program technical assistance, contact: Mary Kay Larson, Project Officer, Division of Reproductive Health, National Center for Chronic Disease Prevention and Health Promotion, 4770 Buford Highway NE, MS K-22, Atlanta, GA 30341-3717, Telephone: (770) 488-6299, E-mail: marykaylarson@cdc.gov.

For financial, grants management, or budget assistance, contact: Annie Harrison Camacho, Grants Management Specialist, CDC Procurement and Grants Office, 2920 Brandywine Road, Atlanta, GA 30341, Telephone: (770) 488-2735 E-mail: ACamacho@cdc.gov.

Dated: March 24, 2004.
Edward Schultz,
Acting Director, Procurement and Grants Office, Centers for Disease Control and Prevention.

[FR Doc. 04-7027 Filed 3-29-04; 8:45 am]

BILLING CODE 4163-18-P